DEPARTMENT OF TRANSPORTATION

Federal Aviation Administration

14 CFR Part 39

[Docket No. FAA-2016-5019; Product Identifier 2015-SW-079-AD; Amendment 39-19210; AD 2018-05-01]

RIN 2120-AA64

Airworthiness Directives; Airbus Helicopters

AGENCY: Federal Aviation Administration (FAA), DOT.

ACTION: Final rule.

SUMMARY: We are adopting a new airworthiness directive (AD) for Airbus Helicopters Model AS332C, AS332C1, AS332L, AS332L1, AS332L2, and EC225LP helicopters. This AD requires inspecting the sliding cabin plug door (sliding door). This AD was prompted by the failure of the sliding door's jettison mechanism due to corrosion. The actions of this AD are intended to address an unsafe condition in these products.

DATES: This AD is effective April 5, 2018.

The Director of the Federal Register approved the incorporation by reference of certain documents listed in this AD as of April 5, 2018.

ADDRESSES: For service information identified in this final rule, contact Airbus Helicopters, 2701 N. Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177. It is also available on the internet at http://www.regulations.gov by searching for and locating Docket No. FAA-2016-5019.

Examining the AD Docket

You may examine the AD docket on the internet at http://www.regulations.gov by searching for and locating Docket No. FAA-2016-5019; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: David Hatfield, Aviation Safety Engineer, Safety Management Section, Rotorcraft Standards Branch, FAA, 10101 Hillwood Pkwy, Fort Worth, TX 76177; telephone (817) 222-5116; email david.hatfield@faa.gov.

SUPPLEMENTARY INFORMATION:

Discussion

On March 3, 2017, at 82 FR 12424, the Federal Register published our notice of proposed rulemaking (NPRM), which proposed to amend 14 CFR part 39 by adding an AD that would apply to Airbus Helicopters Model AS332C, AS332C1, AS332L, AS332L1, and AS332L2 helicopters with a date of manufacture on or before July 14, 2014, and with a sliding door with Airbus Helicopters modification AL25612 or 0725870 installed; and Model EC225LP helicopters with a date of manufacture on or before July 14, 2014.

The NPRM proposed to require visually inspecting for and removing any sealing compound from the sliding doors and any corrosion from all visible bracket surfaces, measuring corrosion depth and performing a jettisoning test if there is corrosion, and measuring the clearance between the bracket and stainless steel pipe to ensure a minimum clearance. For Model EC225LP helicopters and Model AS332-series helicopters with modification AL25612, the NPRM also proposed inspecting for drain obstruction. The proposed requirements were intended to prevent corrosion damage, which can hinder jettisoning the door during an emergency, jeopardizing the safe evacuation of occupants.

The NPRM was prompted by AD No. 2015-0156, dated July 29, 2015, and corrected July 30, 2015, issued by EASA, which is the Technical Agent for the Member States of the European Union, to correct an unsafe condition for the Airbus Helicopters Model AS332C, AS332C1, AS332L, AS332L1, and AS332L2 helicopters manufactured before July 14, 2014, and equipped with sliding doors modified in accordance with Airbus Helicopters modification (MOD) AL25612 or 0725870. EASA AD No. 2015-0156 also applies to Airbus Helicopters Model EC225LP helicopters manufactured before July 14, 2014, and equipped with sliding doors.

EASA advises that the sliding door's emergency jettisoning mechanism failed during a scheduled inspection because of significant corrosion damage caused by water accumulation from a plastic-rubber compound that obstructed the water drain of the jettison mechanism system. According to EASA, this condition, if not detected and corrected, could lead to jamming of the jettisoning mechanism, possibly preventing the jettisoning of the door during an emergency and jeopardizing the safe evacuation of occupants. To address this unsafe condition, EASA AD No. 2015-0156 requires a one-time inspection of the left hand and right hand sliding doors for corrosion.

Since the NPRM was issued, the FAA's Aircraft Certification Service has changed its organization structure. The new structure replaces product directorates with functional divisions. We have revised some of the office titles and nomenclature throughout this Final rule to reflect the new organizational changes. Additional information about the new structure can be found in the Notice published on July 25, 2017 (82 FR 34564).

Comments

After our NPRM was published, we received comments from two commenters.

Request

Both commenters requested that we require replacement of the entire door jettisoning system. In support of this request, the commenters stated that only replacing corroded parts and not the entire system does not eliminate the danger of the parts corroding again.

We disagree. The AD does not only require the replacement of corroded parts. It also requires removing any sealing compound, measuring any corrosion and testing the door jettisoning mechanism, ensuring the clearance between the bracket and stainless steel pipe, and ensuring there is no obstruction of the drain on the roller well bracket. We determined that the combination of these actions reduces the risk of the corrosion recurring to an acceptable level and is therefore sufficient to correct the unsafe condition.

FAA's Determination

These helicopters have been approved by the aviation authority of France and are approved for operation in the United States. Pursuant to our bilateral agreement with France, EASA, its technical representative, has notified us of the unsafe condition described in the EASA AD. We are issuing this AD because we evaluated all information provided by EASA, reviewed the relevant information, considered the comments received, and determined the unsafe condition exists and is likely to exist or develop on other helicopters of these same type designs and that air safety and the public interest require adopting the AD requirements as proposed.

Differences Between This AD and the EASA AD

The EASA AD requires compliance within various times, depending on the helicopter model and modifications. This AD requires compliance within 30 days.

Related Service Information Under 1 CFR Part 51

We reviewed Airbus Helicopters Alert Service Bulletin No. AS332-53.01.86, Revision 1, dated June 29, 2015 (ASB AS332-53.01.86), for Model AS332C, AS332C1, AS332L, AS332L1, and AS332L2 helicopters and military model AS332B, B1, F1, M, and M1 helicopters; and Alert Service Bulletin No. EC225-53A048, Revision 0, dated August 18, 2014 (ASB EC225-53A048), for Model EC225LP helicopters. ASB AS332-53.01.86 and ASB EC225-53A048 specify checking areas of the emergency jettisoning system of the sliding doors for the absence of sealing compound, for corrosion on the visible surfaces of the bracket, for the absence of interference between the stainless steel pipe and the aluminum bracket, and for non-obstruction of the drain.

This service information is reasonably available because the interested parties have access to it through their normal course of business or by the means identified in the ADDRESSES section.

Costs of Compliance

We estimate that this AD affects 24 helicopters of U.S. Registry and that labor costs average $85 per work-hour. Based on these estimates, we expect that visually inspecting for corrosion requires 1 work-hour and no parts for a total cost of $85 per helicopter, and $2,040 for the U.S. fleet. Replacing corroded parts requires 8 work-hours and parts cost $500 for a total cost of $1,180 per helicopter. Replacing the door jettisoning system requires 16 work-hours and parts cost $4,500 for a total cost of $5,860 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-05-01 Airbus Helicopters: Amendment 39-19210; Docket No. FAA-2016-5019; Product Identifier 2015-SW-079-AD.

(a) Applicability

This AD applies to the following Airbus Helicopters, certificated in any category:

(1) Model AS332C, AS332C1, AS332L, AS332L1, and AS332L2 helicopters with a date of manufacture on or before July 14, 2014, and with a sliding cabin plug door (sliding door) with Airbus Helicopters modification AL25612 or 0725870 installed; and

(2) Model EC225LP helicopters with a date of manufacture on or before July 14, 2014.

(b) Unsafe Condition

This AD defines the unsafe condition as corrosion of a jettisoning mechanism which, if not detected and corrected, could result in failure of a sliding door to jettison, preventing occupants from exiting the helicopter during an emergency.

(c) Effective Date

This AD becomes effective April 5, 2018.

(d) Compliance

You are responsible for performing each action required by this AD within the specified compliance time unless it has already been accomplished prior to that time.

(e) Required Actions

Within 30 days:

(1) Visually inspect the left-hand and right-hand sliding doors for sealing compound as shown in Figure 1 of Airbus Helicopters Alert Service Bulletin No. AS332-53.01.86, Revision 1, dated June 29, 2015 (ASB AS332-53.01.86), or Airbus Helicopters Alert Service Bulletin No. EC225-53A048, Revision 0, dated August 18, 2014 (ASB EC225-53A048), as applicable for your model helicopter. Remove any sealing compound.

(2) Inspect all visible bracket surfaces for corrosion. If there is any corrosion, remove the corrosion and measure the corrosion depth.

(i) If the measured corrosion depth is less than 0.5 mm, perform a jettisoning test. If the door passes the test, apply corrosion protectant. If the door does not pass the test, replace the jettisoning system before further flight.

(ii) If the measured corrosion depth is 0.5 mm or more, perform a jettisoning test. If the door passes the test, apply corrosion protectant, perform a jettisoning test at intervals not to exceed two months for not more than six months, and replace the jettisoning system within six months. If the door does not pass the test, replace the jettisoning system before further flight.

(3) Measure the clearance between the bracket and stainless steel pipe. If the clearance is less than 3 mm, remove the lockwire from the union and loosen the unions of the air vent pipe. Position the support and the air vent pipe to ensure a minimum clearance of 3 mm. Tighten the support and unions of the pipe and safety the union using lockwire.

(4) For Model EC225LP helicopters and Model AS332-series helicopters with modification AL25612, inspect for drain obstruction by compressing the middle rail roller well piston and injecting distilled water through the roller well to determine if the water drains. If the drain is obstructed, remove the sealing compound and adhesive from the gutter in the bracket area. Remove the drain from the gutter and unclog the drain and gutter using a spatula or brush. Clean the gutter on the bracket side and the drain. Apply adhesive to the gutter and then slide in the drain. Allow the adhesive to dry, and then apply sealing compound.

(f) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy, Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2015-0156, dated July 29, 2015, and corrected July 30, 2015. You may view the EASA AD on the internet at http://www.regulations.gov in Docket No. FAA-2016-5019.

(h) Subject

Joint Aircraft Service Component (JASC) Code: 5220, Emergency Exits.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. AS332-53.01.86, Revision 1, dated June 29, 2015.

(ii) Airbus Helicopters Alert Service Bulletin No. EC225-53A048, Revision 0, dated August 18, 2014.

(3) For Airbus Helicopters service information identified in this AD, contact Airbus Helicopters, 2701 N. Forum Drive, Grand Prairie, TX 75052; telephone (972) 641-0000 or (800) 232-0323; fax (972) 641-3775; or at http://www.helicopters.airbus.com/website/en/ref/Technical-Support_73.html.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on February 21, 2018.
Scott A. Horn,
Deputy Director for Regulatory Operations, Compliance & Airworthiness Division, Aircraft Certification Service.

[FR Doc. 2018-03928 Filed 2-28-18; 8:45 am]

BILLING CODE 4910-13-P